DEPARTMENT OF TRANSPORTATION

Coast Guard

33 CFR Part 160

[USCG-2001-8659]

RIN 2115-AG06

Notification of Arrival: Addition of Charterer to Required Information

AGENCY: Coast Guard, DOT.

ACTION: Notice of proposed rulemaking.

SUMMARY: The Coast Guard proposes to amend advance notification requirements in the Notice of Arrival regulations for vessels bound for ports or places in the United States. In addition to the information already required by these regulations, the proposed changes would require the owner, master, operator, agent, or person in charge of the vessel to identify the charterer(s) of their vessel. With the proposed addition of the charterer information in the notice, we will be able to better identify the charterers associated with substandard vessels.

DATES: Comments and related material must reach the Docket Management Facility on or before July 2, 2001. Comments sent to the Office of Management and Budget (OMB) on collection of information must reach OMB on or before June 15, 2001.

ADDRESSES: To make sure that your comments and related material are not entered more than once in the docket, please submit them by only one of the following means:

(1) By mail to the Docket Management Facility (USCG-2001-8659), U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

You must also mail comments on collection of information to the Office of Information and Regulatory Affairs, Office of Management and Budget, 725 17th Street NW., Washington, DC 20503, ATTN: Desk Officer, U.S. Coast Guard.

The Docket Management Facility maintains the public docket for this rulemaking. Comments and material received from the public, as well as documents mentioned in this preamble as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

FOR FURTHER INFORMATION CONTACT: If you have questions on this proposed rule, call Project Manager CDR Mark Prescott, Coast Guard, telephone 202-267-0225. If you have questions on viewing or submitting material to the docket, call Dorothy Beard, Chief, Dockets, Department of Transportation, telephone 202-366-5149.

SUPPLEMENTARY INFORMATION:

Request for Comments

We encourage you to participate in this rulemaking by submitting positive and negative comments and related material. If you do so, please include your name and address, identify the docket number for this rulemaking (USCG-2001-8659), indicate the specific section of this document to which each comment applies, and give the reason for each comment. You may submit your comments and material by mail, hand delivery, fax, or electronic means to the Docket Management Facility at the address under ADDRESSES; but please submit your positive or negative comments and material by only one means. If you submit them by mail or hand delivery, submit them in an unbound format, no larger than 8\1/2\ by 11 inches, suitable for copying and electronic filing. If you submit them by mail and would like to know that they reached the Facility, please enclose a stamped, self-addressed postcard or envelope. We will consider all comments and material received during the comment period. We may change this proposed rule in view of them.

Public Meeting

We do not now plan to hold a public meeting. But you may submit a request for a meeting to the Docket Management Facility at the address under ADDRESSES explaining why one would be beneficial. If we determine that one would aid this rulemaking, we will hold one at a time and place announced by a later notice in the Federal Register.

Background and Purpose

The Coast Guard initiated the Port State Control Program (PSC) in April of 1994, because of concerns raised over the steady increase in the number of substandard non-U.S. flagged vessels visiting U.S. waters. The goal of the Program was to eliminate substandard vessels from U.S. waters. To meet this goal the Coast Guard developed a risk-based targeting matrix that evaluated a foreign vessel's Flag State, owner, operator, classification society, ship type, and its compliance history. The use of the matrix allowed limited Coast Guard resources to be directed to those vessels that posed the greatest risk to safety and the environment. The basis of the matrix is derived from information obtained as part of a vessel's notification of arrival required by 33 CFR part 160, subpart C. The targeting matrix is a tool the Captain of the Port (COTP) uses to assign a score to each arriving foreign vessel, and then prioritize vessel boardings based on the total number of points assigned to each vessel. Those vessels, representing the highest risk, are then targeted for boarding. If a vessel is determined to be substandard, it is detained until the deficiencies are corrected. Although the number of detentions of substandard vessels fell from 547 in 1997 to 193 in 2000, there are still too many of these vessels calling on U.S. ports.

Current factors, obtained from the notice of arrival and used in the PSC matrix, include the vessel's class society, flag state, owner and operator. The Coast Guard believes that the proposed addition of charterer, as a factor to consider in the Port State targeting scheme, would further improve our ability to identify vessels most likely to pose the highest risks.

A recent study sponsored by the Netherlands Ministry of Transport indicates that the expense of operating a substandard vessel is 14 percent less than the operating cost of a compliant vessel. We know that many companies chartering vessels to move their cargo go to great lengths to ensure that the vessels they charter are sound and pose minimal risks. In other cases, individuals or corporations select a vessel based solely on the cost of chartering the vessel, foregoing any examination of the vessel's condition or safety and casualty history. We feel these two scenarios demonstrate the value of collecting the arriving vessel's charterer as one more factor in the PSC control matrix.

For purposes of this rulemaking the Coast Guard considers the “charterer” to be the person or organization who contracts for the vessel or the majority of the carrying capacity of a vessel for the transportation of cargo to a stated port for a specified period. With the proposed addition of the charterer information in the notice, we will be able to better identify the charterers associated with substandard vessels. Vessels that are associated with targeted charterers will be assigned points, with the appropriate weighting, in the targeting matrix. This additional information will enable us to better prioritize inspections of vessels of greater risk.

Regulatory History

We published in the Federal Register, on August 18, 2000, a notice of request for comments entitled Notification of Arrival; Addition of Charterer or Cargo Owner to Required Information (65 FR 50481). You should refer to this notice for a comprehensive discussion of background information relating to this rulemaking. You can find this notice electronically through the Web Site for the Docket Management System at http://dms.dot.gov under docket number USCG-2000-7796.

Discussion of Comments

The Coast Guard received sixteen comment letters in response to the notice of request for comments published in the Federal Register on August 18, 2000. The notice outlined the Coast Guard's statutory authority for collecting specific information from vessels arriving at ports in the United States. It also asked thirteen questions relative to adding charterer and cargo owner information to that information already required to be reported in the notice of arrival under 33 CFR part 160, subpart C. Only five comment letters answered all of the questions asked within the notice. To concentrate on all of answers and comments addressing the specific questions asked in our notice, we have organized this discussion into sections. Each of the thirteen questions asked in the notice is designated as an independent section, and is identified within section headings. A general overview of the responses suggests that collection of charterer would be of value for the PSC matrix and entails minimal costs. The collection of cargo owner would be more difficult and less valuable, particularly in cases of containers or multiple cargo owners.

Question 1: What Role Do the Charterer and Cargo Owner Play in Ensuring Ships Are in Compliance With International Safety and Pollution Regulations? To What Extent Should They Be Held Accountable?

The vast majority of respondents to this question felt that the vessel owner is ultimately responsible for the condition of the vessel. Their opinion on the role played by the charterer and cargo owner in ensuring the quality of the vessel was split. Seven of the twelve respondents felt that the charterer shared in the responsibility and pointed out that, particularly among bulk liquid transporters, there was significant effort made by the charterer to select vessels with the best record of compliance. None of the respondents felt the charterer or cargo owner should be held accountable for ship selection. It was generally felt that the role of the cargo owner was more difficult to determine and in some cases there would be multiple cargo owners. Many of these responses support the Coast Guard belief that the charterer does have an influence on the quality of vessels carrying their product and therefore support our proposal to add charterer to the information required on the notice of arrival.

Question 2: Would Publication of a List of Charterers and Cargo Owners That Are Associated With Detentions Improve Compliance With International Safety Standards?

Eleven comments responded to this question. Seven of the comments indicate that publishing such a list would not improve compliance with international safety standards. Four respondents believe that publishing a list of charterers and cargo owners associated with detentions would or may have a measurable impact. One respondent states that enforcement of existing regulations would be more sensible than adding new regulations. The Coast Guard agrees that publication of the list of charterers associated with vessel detentions is not likely to significantly influence a charterer's practices. However, we believe this information will be useful in targeting vessels for PSC boarding and would distribute this information to our field units for that purpose.

Question 3: Should the Charterer and Cargo Owner Be Included in the Coast Guard's Port State Control targeting matrix? If So, Does the Type of Chartering Agreement Matter When a Decision Is Being Made To Determine Who Should Be Associated With a Detention?

Eleven comments responded to this question. Six of the respondents believe including the charterer and cargo owner in the targeting matrix holds merit, whereas five respondents disagreed or had reservations. There was one comment suggesting that including the port facility along with the charterer would be of value and another suggesting that the insurer should be included. One respondent that supported adding charterer and cargo owner to the PSC matrix mentioned that trying to collect and evaluate this information may prove to be unwieldy, particularly with the potential for many cargo owners for a single vessel. The Coast Guard agrees with the comments supporting inclusion of the charterer and cargo owner information in our targeting matrix and also with the comment concerning the difficulty in managing the cargo owner data. The Coast Guard believes that requiring the vessel to provide the cargo owner information in the notice of arrival will be an overall greater burden on industry than providing the charterer, with perhaps less value. Because of this, and the fact that it would be much more difficult for us to collect and evaluate the cargo owner, we do not propose to add cargo owner information to the notice of arrival requirement. One comment indicated that only after the Coast Guard had sufficient time to collect and analyze data on the role of the charterer in vessel detentions, would it be relevant to use charterer in its PSC matrix. We agree with this comment, and we will need to have charterer data for some time in order to assess the weight to assign in our boarding matrix and to be able to differentiate those charterers most likely to be associated with vessel detentions.

Question 4: What Is the Screening Process Used by Your Company Prior to Chartering a Vessel? How Is the Final Vessel Selection Made?

Question 5: What Factors Are Considered When You Select a Vessel for Charter?

Eight of the sixteen total responses to the docket addressed these questions. The same eight responders addressed question five and, because of the connection between the two questions, we will address them both here. All comments noted specific elements used in screening a vessel prior to chartering. The extent to which these elements are considered appears to vary from one company to another. Some companies rely on information from trade associations or data collection organizations, some have extensive in-house vetting processes or contract for such services. There appears to be variations between types of vessels being chartered, bulk liquid vs. dry bulk vs. container ships. Those elements considered included availability, cost, compliance with regulations, cargo carrying capacity, vessel suitability for the cargo, vessel stability, terms of contract, ownership, history of the vessel and the owner's fleet, inspection history, age, Flag State, class society and past knowledge or use of the vessel. The comments reinforce our belief that individuals and corporations vary considerably in the methodology and tools used in making a decision on which vessel to charter. They also vary greatly in philosophy regarding whether to rely on the owner to supply a properly certificated vessel, or whether they need to expend greater resources to ensure that the vessel meets all applicable international marine safety and environmental protection standards. We feel that where the emphasis is placed to a greater extent on cost in selecting a vessel for charter, there will be a higher likelihood that the vessel will be substandard. For this reason, we believe that targeting vessels that are chartered by companies frequently associated with substandard vessels for PSC examinations, will improve our ability to keep substandard ships out of U.S. waters. Therefore, we propose to collect charterer information from all vessels, and use this information to improve our foreign vessel targeting matrix.

Question 6: Do You Consider a Vessel's Safety or Casualty Record, Including Its Port State Control History in Your Decision Process?

Seven of the eight comments submitted to the docket in response to this question indicated that they use the vessel's safety or casualty record in the chartering decision process. The degree of importance placed on safety and casualty records varies but several felt it was very important. One respondent who felt it was important stressed the use of the Coast Guard's PSIX database and encouraged the frequent updating of that Port State Control Database. These responses further validate the charterer's role in the quality of vessels being chartered. The Coast Guard believes that the extent to which charterers are selective in their chartering decisions will be another factor that can be used in PSC boarding decisions.

Question 7: Does a Charterer or Cargo Owner Change During a Voyage? If Yes, What Are the Circumstances and in General How Often Does This Occur?

The responses to this question generally indicate that it is rare for either charterer or cargo owner to change during a voyage. It was more likely however, that the cargo owner would change and possibly more than once during a voyage. For reasons stated earlier, the Coast Guard is not proposing to collect information on the cargo owner, so such change would not affect the purpose of this regulatory change to the notice of arrival requirements. Regarding a change of charterer, we feel this is a much less frequent occurrence, and that providing the current charterer would not be a burden to the Master or vessel prior to arrival.

Question 8: In Those Instances Where the Charterer Changes During the Voyage or There Are Multiple Cargo Owners or Cargo Ownership Changes How Is Responsibility for Ensuring Compliance With International Maritime Safety and Pollution Prevention Standards Determined?

Five responses provided a specific answer to who is responsible for compliance with international safety and pollution standards under the circumstances mentioned in the question. Three of the responses emphasized that the vessel owner was responsible regardless of such changes. Two comments indicate that some vetting could still take place prior to a cargo owner or charterer change, and that they played some role. We appreciate the information provided within the responses to this question. At this point the relevancy of the question is marginal, because we are not proposing to collect cargo owner information, and a change to the charterer during a voyage is apparently a rare event.

Question 9: What Documentation Does the Vessel Owner, Agent, Master, Person-in-Charge or Operator Have That Identifies the Charterer or Cargo Owner? Is This Documentation Available Onboard the Vessel?

There was a mixed response as to the availability of the cargo owner and or charterer information being available onboard the vessel. The Coast Guard believes that today's technology easily enables a vessel or vessel agent to communicate with its home office or vessel owner, allowing charterer information to be readily available for notice of arrival reporting. As mentioned earlier, identifying the cargo owner, particularly in situations with multiple cargo owners, is a more onerous task, and the Coast Guard is not proposing to add this information to the required notice of arrival.

Question 10: How Is the Cost of a Delay Resulting From a Port State Control Action or Detention Measured or Determined? Who Absorbs or Pays for It?

We received 12 comments to question ten. According to eight commenters the cargo owner measures the cost of delay and the vessel owner pays for the actual delay. Three other respondents believe the cargo owner absorbs the cost of delay. One commenter did not directly respond to this question. We appreciate the information provided within the responses to this question. However, the cost of delay is not included in the regulatory cost estimates. Generally, the Coast Guard does not evaluate these types of expenses, because the industry can avoid them by complying with the applicable regulations.

Question 11: Would Requiring That the Name of the Charterer and Cargo Owner Be Provided as Part of the Notice of Arrival Have an Impact on Small Businesses?

We received 11 comments to this question. Four commenters argue that requiring them to include the name of the charterer and cargo owner in the notice of arrival information would create a high additional cost. Once again the concerns lie with providing the name or names of cargo owners, which the Coast Guard does not propose to collect.

Question 12: What Would the Cost Be to Your Company of Adding the Name of Charterer and Cargo Owner to the Information Reported in the Notice of Arrival? Does this Cost Differ According to the Type of Charter, Cargo Owner or Vessel Type? What Is the Basis for Your Estimate?

We received ten comments addressing this question. Six comments indicate that there would be a minimal cost burden placed on their company by identifying the charterer in the notice of arrival. However, two respondents, representing container and break-bulk shipping operations, estimate that their company would be burdened with a significant cost increase by adding this information to the notice of arrival. The four remaining respondents did not directly answer this question. We appreciate the information provided, and believe that the associated cost for providing charterer information to be minimal. Therefore, we propose to include charterer information in the notice of arrival.

Question 13: What Is Your Estimate of the Total Cost to Industry of Adding the Name of the Charterer and Cargo Owner to the Information Reported in the Notice of Arrival? What Is the Total Cost by Charterer, Cargo Owner or Vessel Type? What Is the Basis for Your Estimate?

Eleven comments concerning this question were submitted to the docket. Nine of those commenters were unable to provide an answer because they lack the information necessary to give a proper response. Another commenter went beyond the scope of this question. One commenter estimates the burden of cost to the industry would be worth considering. We appreciate the information provided within the responses to this question. We reviewed the comments and incorporated the information into our regulatory analysis.

Discussion of Proposed Rule

This rulemaking would revise 33 CFR part 160, subpart C. The statutory authority for this rulemaking is 33 U.S.C. 1231. Specifically, this rulemaking would amend 33 CFR 160.203 by adding the definition of charterer and 33 CFR 160.201, 160.207, and 160.211 by including the name of the charterer as part of the information required by vessels bound for ports or places in the United States.

Adding the definition of charterer is necessary to differentiate between long term chartering agreements (bare boat or demise charters), where the charterer is essentially the operator of the vessel, and an individual that “leases” a vessel to move goods or materials for short periods of time or a single voyage.

Regulatory Evaluation

This proposed rule is not a “significant regulatory action” under section 3(f) of Executive Order 12866, Regulatory Planning and Review, and does not require an assessment of potential costs and benefits under section 6(a)(3) of that Order. The Office of Management and Budget has not reviewed it under that Order. It is not significant under the regulatory policies and procedures of the Department of Transportation (44 FR 11040, February 26, 1979).

A draft Regulatory Evaluation under paragraph 10(e) is available in the docket as indicated under ADDRESSES. A summary of the Evaluation follows:

Under the Port State Control (PSC) program the Coast Guard developed a risk-based matrix to better identify substandard foreign vessels calling in U.S. ports. The matrix evaluates a foreign vessel's Flag State, owner, operator, classification society, ship type, and compliance history and assigns scores to each vessel. Based on these scores, the Coast Guard boards and examines vessels that are likely to pose risks to safety or the environment. Vessels found to have deficiencies are detained until the deficiencies have been corrected.

While the number of substandard vessel detentions has fallen since the implementation of PSC, too many substandard vessels are calling on U.S. ports. A recent study by the Netherlands Ministry of Transport indicates that the expense of operating a substandard vessel is approximately 14 percent lower than the expense of operating a compliant vessel. When individuals or corporations select vessels to carry their products, the cost to charter vessels is a prime consideration in some cases. Thus, many vessels selected for transport based on cost alone are likely to be substandard. By requiring vessels to report their charterers in the notifications of arrival, the Coast Guard will be able to better identify potentially substandard vessels.

The proposed addition of charterer as a factor that is considered when determining vessel risk in our Port State Control targeting scheme would improve our ability to determine which vessels are likely to be substandard. Charterers who are continually associated with substandard vessels would be assigned points, with the appropriate weighting, in the targeting matrix. Currently, we can not calculate the number or percentage of detentions that would cause a charterer to be targeted, because we do not have the essential charterer data. With the proposed addition of the charterer information in the notice of arrival, we will be able to better identify the charterers associated with substandard vessels and better identify the high risk vessels requiring inspection.

Population: There are approximately 10,000 vessels submitting 67,300 notice of arrivals annually that would be subject to this rule.

Cost and benefit: We determined that vessel owners and operators will incur the costs of this rule. The Coast Guard will not incur additional costs as a result of the increase in information collected. The increased costs will be the result of additional time spent completing the charterer information in the Notice of Arrival paperwork. This additional effort is relatively minimal.

The potential benefits of the proposed rule are not quantifiable but include the following: (1) U.S. waters will experience increased safety; (2) U.S. waters will experience a decrease in damage to property and the environment; (3) Coast Guard will target substandard vessels traveling U.S. waters that pose safety and environmental risks; (4) Coast Guard will spend less effort on compliant vessels; (5) Coast Guard will spend more effort examining previously unboarded vessels; (6) Coast Guard will have more information on foreign vessels traveling U.S. waters; (7) Coast Guard and vessel owners will have better understanding of the risks posed by foreign vessels; and (8) degrees of liability will be clarified.

Alternatives: The only alternative to the proposed rule we consider is to take no action. The Coast Guard would continue to collect the information currently required under 33 CFR part 160, subpart C, boarding vessels based on the current PSC targeting matrix. The Coast Guard believes that factoring the charterer into the targeting matrix is an important element in risk analysis for the PSC program. Currently, too many substandard vessels that pose risks to public safety and the environment enter U.S. ports. The additional information collected under the proposed rule would help the Coast Guard identify owners of substandard vessels and would address vessel deficiencies more efficiently. The “no action” alternative is not further explored.

The annual costs for the proposed rule are summarized as follows:

Table 1: Total Annual Costs Summary
Estimated number of port calls | Clerical labor minutes per port call | Clerical labor minutes per year | Cost per clerical labor hour | Cost per clerical labor minutes | Total annual cost
67,300 | 1 | 67,300 | $31.00 | $0.52 | $35,000

Small Entities

Under the Regulatory Flexibility Act (5 U.S.C. 601-612), we considered whether this proposed rule would have a significant economic impact on a substantial number of small entities. The term “small entities” comprises small businesses, not-for-profit organizations that are independently owned and operated and are not dominant in their fields, and governmental jurisdictions with populations of less than 50,000.

We estimate that this rule will not affect a significant number of small businesses because the proposed rule imposes minimal impacts. Therefore, the Coast Guard certifies under 5 U.S.C. 605(b) that this proposed rule would not have a significant economic impact on a substantial number of small entities. If you think that your business, organization, or governmental jurisdiction qualifies as a small entity and that this rule would have a significant economic impact on it, please submit a comment to the Docket Management Facility at the address under ADDRESSES. In your comment, explain why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please consult CDR Mark Prescott, Project Manager, Office of Operating and Environmental Standards (G-MSO), telephone 202-267-0225. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This proposed rule would call for a collection of information under the Paperwork Reduction Act of 1995 (44 U.S.C. 3501-3520). As defined in 5 CFR 1320.3(c), “collection of information” comprises reporting, record keeping, monitoring, posting, labeling, and other, similar actions. The title and description of the information collections, a description of those who must collect the information, and an estimate of the total annual burden follow. The estimate covers the time for reviewing instructions, searching existing sources of data, gathering and maintaining the data needed, and completing and reviewing the collection.

Title: Notification of Arrival: Addition of Charterer to Required Information

Summary of the Collection of Information: This rulemaking will amend 33 CFR 160.201, 160.207, and 160.211 to include the name of the charterer as part of the information required by vessels bound for ports or places in the United States. This collection of information will add minimal burden to the information collection described in OMB 2115-0557, Advanced Notice of Vessel Arrival and Departure.

Proposed Use of Information: The Coast Guard will use the information collected to identify those foreign vessels that pose the highest risks to U.S. waterways and ports and target these vessels for inspection.

Description of the Respondents: The respondents are vessel crews traveling U.S. waterways and hailing U.S. ports that must issue an Advanced Notice of Arrival.

Number of Respondents: The estimated number of vessels with crews that will provide the information is 10,000 annually.

Frequency of Response: Crews on approximately 10,000 vessels will issue an Advanced Notice of Arrival 6 to 7 times annually.

Burden of Response: It is estimated that adding the name of the charterer on the Notice of Arrival will require 1 minute of clerical labor per response.

Estimate of Total Annual Burden: It is estimated that vessels will make 67,300 port calls annually. Each of these port calls will require 1 minute of clerical labor to complete the charterer information on the Notice of Arrival. The estimated annual burden is 67,300 minutes, or 1,122 hours.

As required by the Paperwork Reduction Act of 1995 (44 U.S.C. 3507(d)), we have submitted a copy of this proposed rule to the Office of Management and Budget (OMB) for its review of the collection of information.

We ask for public comment on the proposed collection of information to help us determine how useful the information is; whether it can help us perform our functions better; whether it is readily available elsewhere; how accurate our estimate of the burden of collection is; how valid our methods for determining burden are; how we can improve the quality, usefulness, and clarity of the information; and how we can minimize the burden of collection.

If you submit comments on the collection of information, submit them both to OMB and to the Docket Management Facility where indicated under ADDRESSES, by the date under DATES.

You need not respond to a collection of information unless it displays a currently valid control number from OMB. Before the requirements for this collection of information become effective, we will publish notice in the Federal Register of OMB's decision to approve, modify, or disapprove the collection.

Federalism

We analyzed this rule under Executive Order 13132, Federalism. Because this rule amends the existing federal Advance Notice of Arrival rules, if those existing rules are preemptive, then perforce this rule, which would amend the existing rule to add “charterer” to the list of required information to be supplied in an Advance Notice of Arrival, will also be preemptive. The Coast Guard believes that its existing Advance Notice of Arrival regulation in 33 CFR 160.213, which are issued under Title I of the Ports and Waterways Safety Act, is preemptive of any state rule, which would also require the vessel to provide the state (or one of its political subdivisions) advance notice of arrival. See, U.S. v. Locke, 529 U.S. 89, 120 S.CT 1135 (2000). However, the Coast Guard has, in numerous instances, through Memoranda of Agreement with an interested State, cooperated with the States and agreed to provide the information contained in the Advance Notice of Arrival to the states. It will continue to do so.

Unfunded Mandates Reform Act

The Unfunded Mandates Reform Act of 1995 (2 U.S.C. 1531-1538) requires Federal agencies to assess the effects of their regulatory actions not specifically required by law. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and does not concern an environmental risk to health or risk to safety that may disproportionately affect children.

Indian Tribal Governments

This rule does not have tribal implications under Executive Order 13175, Consultation and Coordination with Indian Tribal Governments. A rule with tribal implications has a substantial direct effect on one or more Indian tribe, on the relationship between the Federal Government and Indian tribes, or on the distribution of power and responsibilities between the Federal Government and Indian tribes.

Environment

We considered the environmental impact of this proposed rule and concluded that, under figure 2-1, paragraph (34)(d), of Commandant Instruction M16475.1C, this proposed rule is categorically excluded from further environmental documentation. The proposed rule is a procedural regulation that does not have any environmental impact because the action does not have a significant effect on the quality of the human environment. A “Categorical Exclusion Determination” is available in the docket where indicated under ADDRESSES.

List of Subjects in 33 CFR Part 160

Administrative practice and procedure; Harbors; Hazardous materials transportation; Marine safety; Navigation (water); Reporting and record keeping requirements; Vessels;

For the reasons discussed in the preamble, the Coast Guard proposes to amend 33 CFR part 160, subpart C as follows:

PART 160—PORTS AND WATERWAYS SAFETY—GENERAL

Subpart C—Notifications of Arrivals, Departures, Hazardous Conditions, and Certain Dangerous Cargoes

1. The authority citation for part 160 continues to read as follows:

Authority: 33 U.S.C. 1223, 1231; 49 CFR 1.46.

2. In § 160.201 redesignate paragraphs (c)(3)(vii), (viii), (ix), and (x) as paragraphs (c)(3)(viii), (ix), (x), and (xi) respectively, and add paragraph (c)(3)(vii) to read as follows:

§ 160.201 Applicability and exceptions to applicability.

* * * * *

(c) * * *

(3) * * *

(vii) Name of the charterer of the vessel;

* * * * *

3. In § 160.203 add in alphabetical order the definition for “Charterer” to read as follows:

§ 160.203 Definitions.

* * * * *

Charterer means the person or organization that contracts for the majority of the carrying capacity of a ship for the transportation of cargo to a stated port for a specified period.

* * * * *

4. In § 160.207 redesignate paragraphs (c)(7), (8), (9), (10), and (11) as paragraphs (c)(8), (9), (10), (11), and (12) respectively, and add paragraph (c)(7) to read as follows:

§ 160.207 Notice of arrival: Vessels bound for ports or places in the United States.

* * * * *

(c) * * *

(7) Name of the charterer of the vessel;

* * * * *

5. Amend § 160.211 as follows:

a. Redesignate paragraphs (a)(7), (8), (9), (10), (11), (12), (13), (14), (15), and (16) as paragraphs (a)(8), (9), (10), (11), (12), (13), (14), (15), (16), and (17) respectively; and add paragraph (a)(7);

b. In paragraph (b) remove “(a)(8) through (16)” and all “(a)(9) through (17)”.

The addition reads as follows:

§ 160.211 Notice of arrival: Vessels carrying certain dangerous cargo.

(a) * * *

(7) Name of the charterer of the vessel;

* * * * *

6. Amend § 160.213 to read as follows:

a. Redesignate paragraphs (a)(7), (8), (9), (10), (11), (12), (13), (14), and (15) as paragraphs (a)(8), (9), (10), (11), (12), (13), (14), (15), and (16) respectively, and add paragraph (a)(7);

b. In paragraph (b) remove “(a)(8) through (15)” and “(a)(9) through (16)”.

The addition read add as follows:

§ 160.213 Notice of departure: Vessels carrying certain dangerous cargo.

(a) * * *

(7) Name of the charterer of the vessel;

* * * * *

Dated: March 23, 2001.
R.C. North,
Rear Admiral, U. S. Coast Guard, Assistant Commandant for Marine Safety and Environmental Protection.

[FR Doc. 01-10838 Filed 4-30-01; 8:45 am]

BILLING CODE 4910-15-U